DEPARTMENT OF THE INTERIOR

Bureau of Land Management

[BAC 4331-11]

Notice of Public Meetings of the Idaho Resource Advisory Council

AGENCY: Bureau of Land Management, Interior.

ACTION: Notice of public meetings.

SUMMARY: In accordance with the Federal Land Policy and Management Act of 1976 and the Federal Advisory Committee Act of 1972, the U.S. Department of the Interior Bureau of Land Management's (BLM) Idaho Resource Advisory Council (RAC) will meet as indicated below.

DATES: The BLM Idaho RAC will meet on Wednesday, April 14, 2021. The meeting will be held from 9:00 a.m. to 5:00 p.m. (Mountain Standard Time). The RAC will also meet Wednesday, August 11, 2021. The meeting will be held from 9:00 a.m. to 5:00 p.m. (Mountain Standard Time).

ADDRESSES: The April 21, 2021, meeting will be held virtually.

The August 11, 2021, meeting is scheduled to be held at the BLM Idaho State Office, located at 1387 South Vinnell Way, Boise, Idaho 83709, in the Sagebrush/Ponderosa conference rooms. There will be an option to participate virtually as well. Virtual participation information will be posted online 2 weeks in advance of each meeting at https://www.blm.gov/get-involved/resource-advisory-council/near-you/idaho.

FOR FURTHER INFORMATION CONTACT: MJ Byrne, 1387 South Vinnell Way, Boise, Idaho 83709; (208) 373-4006; mbyrne@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Idaho RAC is chartered, and the 15 members are appointed by the Secretary of the Interior. Their diverse perspectives are represented in commodity, non-commodity, and local interests. The RAC serves in an advisory capacity to BLM and USDA Forest Service officials concerning planning and management of public land and national forest resources located, in whole or part, within the State of Idaho.

Agenda items for the April meeting include management of wildland fire and fuels and outdoor recreation; review of and/or recommendations regarding proposed actions by the BLM's Boise, Twin, Falls, Idaho Falls, and/or Coeur d'Alene Districts and USDA Forest Service units; and any other business that may reasonably come before the RAC. Agenda items for the August meeting will be formalized at the conclusion of the April meeting.

Final agendas will be posted online 2 weeks in advance of each meeting at https://www.blm.gov/get-involved/resource-advisory-council/near-you/idaho. All meetings are open to the public in their entirety. Public comment periods will be held in the afternoon on each meeting day. Depending on the number of persons wishing to speak, and the time available, the time for individual comments may be limited. Comments can be mailed to: BLM Idaho State Office; Attn: MJ Byrne; 1387 South Vinnell Way; Boise, ID 83709. All comments received will be provided to the Idaho RAC members.

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

John F. Ruhs,
Idaho State Director.

[FR Doc. 2021-00437 Filed 1-11-21; 8:45 am]

BILLING CODE 4331-11-P